DEPARTMENT OF HEALTH AND HUMAN SERVICES

Centers for Disease Control and Prevention

[30Day-04-0007]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an email to omb@cdc.gov. Send written comments to CDC Desk Officer, Human Resources and Housing Branch, New Executive Office Building, Room 10235, Washington, DC 20503 or by fax to (202) 395-6974. Written comments should be received within 30 days of this notice.

Proposed Project

Community Assistance Panels Nomination Form, OMB No. 0923-0007—Extension—The Agency for Toxic Substances and Disease Registry (ATSDR) is mandated pursuant to the 1980 Comprehensive Environmental Response Compensation and Liability Act (CERCLA) and its 1986 Amendments, the Superfund Amendments and Reauthorization Act (SARA), to prevent or mitigate adverse human health effects and diminished quality of life resulting from the exposure to hazardous substances in the environment. To facilitate this effort, ATSDR seeks the cooperation of the community being evaluated through direct communication and interaction.

Direct community involvement is required to conduct a comprehensive scientific study and to effectively disseminate specific health information in a timely manner. Also, this direct interaction fosters a clear understanding of health issues that the community considers important, and establishes credibility for the agency. The Community Assistance Panel nominations forms are completed by individuals in the community to nominate themselves or others for participation on these panels.

This request is for a three-year extension of the current OMB approved Community Assistance Panel nominations form. The annualized burden hours are estimated to be 25.

Respondents | Number of respondents | Number of responses per respondent | Average burden per response (in hours)
General Public | 150 | 1 | 10/60

Dated: August 31, 2004.
Alvin Hall,
Director, Management Analysis and Services Office, Centers for Disease Control and Prevention.

[FR Doc. 04-20516 Filed 9-9-04; 8:45 am]

BILLING CODE 4163-18-P